ARCTIC RESEARCH COMMISSION

Programs and Research Projects Affecting the Arctic

Notice is hereby given that the U.S. Arctic Research Commission will hold its 100th meeting in Anchorage and Bethel, Alaska, on March 21-22, 2013. The business sessions, open to the public, will convene at 8:30 a.m. in Anchorage and reconvene in the afternoon in Bethel on March 21. The commission will meet again at 8:30 a.m. on March 22 in Bethel.

The Agenda items include:

(1) Call to order and approval of the agenda

(2) Approval of the minutes from the 99th meeting

(3) Commissioners and staff reports

(4) Discussion and presentations concerning Arctic research activities

The focus of the meeting will be Arctic research activities in Bethel, as well as reports and updates on other programs and research projects affecting the Arctic.

If you plan to attend this meeting, please notify us via the contact information below. Any person planning to attend who requires special accessibility features and/or auxiliary aids, such as sign language interpreters, must inform the Commission of those needs in advance of the meeting.

Contact person for further information: John Farrell, Executive Director, U.S. Arctic Research Commission, 703-525-0111 or TDD 703-306-0090.

John Farrell,
Executive Director.

[FR Doc. 2013-03849 Filed 2-20-13; 8:45 am]

BILLING CODE 7555-01-P